DEPARTMENT OF HEALTH AND HUMAN SERVICES

National Institutes of Health

National Cancer Institute Amended; Notice of Meeting

Notice is hereby given of a change in the meeting of the National Cancer Institute Special Emphasis Panel, April 30, 2015 08:00 a.m. to April 30, 2015, 06:00 p.m., Hyatt Regency Bethesda, One Bethesda Metro Center, 7400 Wisconsin Avenue, Bethesda, MD 20814 which was published in the Federal Register on March 12, 2015, 80 FR 13012.

The meeting notice is amended to change the meeting title from NCI Omnibus R03 & R21 SEP-12 to Exploratory/Developmental Research Grant Program-Omnibus SEP-12. The meeting is closed to the public.

Dated: April 3, 2015.
Melanie J. Gray-Pantoja,
Program Analyst, Office of Federal Advisory Committee Policy.

[FR Doc. 2015-08130 Filed 4-8-15; 8:45 am]

BILLING CODE 4140-01-P